DEPARTMENT OF ENERGY

Federal Energy Regulatory Commission

Combined Notice of Filings #1

Take notice that the Commission received the following electric corporate filings:

Docket Numbers: EC10-51-004.

Applicants: T. ROWE PRICE GROUP, INC.

Description: Request for Reauthorization and Extension of Blanket Authorizations Under Section 203 of the Federal Power Act of T. Rowe Price Group, Inc., et al.

Filed Date: 4/21/22.

Accession Number: 20220421-5205.

Comment Date: 5 p.m. ET 5/12/22.

Docket Numbers: EC22-53-000.

Applicants: GC PGR Holdco, LLC, Beulah Solar, LLC, Centerfield Cooper Solar, LLC, Highest Power Solar, LLC, Lick Creek Solar, LLC, Peony Solar, LLC, PGR 2020 Lessee 8, LLC, PGR 2021 Lessee 1, LLC, PGR 2021 Lessee 2, LLC, PGR 2021 Lessee 5, LLC, PGR 2021 Lessee 7, LLC, PGR Lessee L, LLC, PGR Lessee O, LLC, Stanly Solar, LLC, Sugar Solar, LLC, Trent River Solar, LLC, Trent River Solar Mile Lessee, LLC, TWE Bowman Solar Project, LLC.

Description: Amendment to April 15, 2022 Application for Authorization Under Section 203 of the Federal Power Act and Request for Expedited Consideration of GC PGR Holdco, LLC.

Filed Date: 4/18/22.

Accession Number: 20220418-5533.

Comment Date: 5 p.m. ET 5/9/22.

Take notice that the Commission received the following exempt wholesale generator filings:

Docket Numbers: EG22-105-000.

Applicants: Walleye Wind, LLC.

Description: Walleye Wind, LLC submits Notice of Self-Certification of Exempt Wholesale Generator Status.

Filed Date: 4/20/22.

Accession Number: 20220420-5290.

Comment Date: 5 p.m. ET 5/11/22.

Take notice that the Commission received the following electric rate filings:

Docket Numbers: ER20-686-008.

Applicants: Tri-State Generation and Transmission Association, Inc.

Description: Compliance filing: Correction to Amended Compliance Filing in OATT Settlement to be effective 3/26/2020.

Filed Date: 4/21/22.

Accession Number: 20220421-5171.

Comment Date: 5 p.m. ET 5/12/22.

Docket Numbers: ER22-1464-000.

Applicants: EnerSmart Murray BESS LLC.

Description: Report Filing: Supplement to Market-Based Rate Application to be effective N/A.

Filed Date: 4/19/22.

Accession Number: 20220419-5195.

Comment Date: 5 p.m. ET 5/10/22.

Docket Numbers: ER22-1666-000.

Applicants: Parkway Generation Essex, LLC, Parkway Generation Operating LLC.

Description: Petition for Limited Waiver of Parkway Generation Essex, LLC, et al.

Filed Date: 4/20/22.

Accession Number: 20220420-5326.

Comment Date: 5 p.m. ET 5/11/22.

Docket Numbers: ER22-1667-000.

Applicants: Public Service Company of Colorado.

Description: § 205(d) Rate Filing: 2022-04-21 PSC-TSGT-COM-Reunion Sub-586-0.0.0-Concurrence to be effective 4/18/2022.

Filed Date: 4/21/22.

Accession Number: 20220421-5112.

Comment Date: 5 p.m. ET 5/12/22.

Docket Numbers: ER22-1668-000.

Applicants: Northern Indiana Public Service Company LLC.

Description: § 205(d) Rate Filing: Amendment to NIPSCO-AEP Indiana Dark Fiber Lease to be effective 3/21/2022.

Filed Date: 4/21/22.

Accession Number: 20220421-5222.

Comment Date: 5 p.m. ET 5/12/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 21, 2022.
Debbie-Anne A. Reese,
Deputy Secretary.

[FR Doc. 2022-08963 Filed 4-26-22; 8:45 am]

BILLING CODE 6717-01-P